DEPARTMENT OF THE INTERIOR

National Park Service

[NPS-WASO-NAGPRA-NPS0039261; PPWOCRADN0-PCU00RP14.R50000]

Notice of Inventory Completion: University of California, Riverside, Riverside, CA

AGENCY: National Park Service, Interior.

ACTION: Notice.

SUMMARY: In accordance with the Native American Graves Protection and Repatriation Act (NAGPRA), the University of California, Riverside has completed an inventory of human remains and associated funerary objects and has determined that there is a cultural affiliation between the human remains and associated funerary objects and Indian Tribes or Native Hawaiian organizations in this notice.

DATES: Repatriation of the human remains and associated funerary objects in this notice may occur on or after January 29, 2025.

ADDRESSES: Megan Murphy, University of California, Riverside, 900 University Avenue, Riverside, CA 92517-5900, telephone (951) 827-6349, email megan.murphy@ucr.edu.

SUPPLEMENTARY INFORMATION: This notice is published as part of the National Park Service's administrative responsibilities under NAGPRA. The determinations in this notice are the sole responsibility of the University of California, Riverside, and additional information on the determinations in this notice, including the results of consultation, can be found in the inventory or related records. The National Park Service is not responsible for the determinations in this notice.

Abstract of Information Available

Based on the information available, human remains representing, at least, one individual have been reasonably identified. The eight associated funerary objects are one lot of ceramic sherds, one lot of glass objects, one lot of lithic materials, one lot of metal objects, one lot of botanical materials, one lot of unmodified shell, one lot of fire-altered rock, and one lot of geological materials. In 1978, the University of California, Riverside Department of Anthropology led an archaeological field school under the direction of Philip Wilke. The field school consisted of the student excavation of archaeological site CA-SBR-1577 (formerly CA-SBR-911 and SBCM-65). The site was first recorded by Gerald Smith in 1940 as a “large campsite on [a] terrace overlooking [the Santa Ana] riverbed.” Objects such as manos, metates, cogstones, and projectile points had previously been reported by residents on the surface of the site. The students excavated a total of 6 units to an average depth of 70cm. A total of 3,092 items were cataloged and housed at the University of California, Riverside, under Accession Number 59. During the excavation, students uncovered a human burial in Unit 1, which was misidentified as faunal remains. In 2024, at the request of tribal representatives, an osteologist reviewed the collection and identified the remains as human. Tribal representatives also identified the objects in the collection as being associated funerary objects. These objects included ceramic sherds, glass objects, lithic materials, metal objects, botanical materials, unmodified shell, fire-altered rock, and geological materials. Based on biological information, the human remains were determined to be Native American. Archaeologists have asserted that Serrano peoples have continuously occupied the San Bernardino Mountains and the Santa Ana River Watershed for up to 5,000-6,000 years BP. Ethnographer John Peabody Harrington recorded several Serrano place names throughout the Watershed during his interviews with Yuhaaviatam leader, Santos Manuel in 1918. Manuel told Harrington that the Santa Ana River is called hu'napat patr, meaning “bears water,” and a Serrano village, Junubabit, was situated on the Santa Ana River's southeast bank in today's Colton, CA. Santos Manuel's testimony and Traditional Knowledge identify Colton and the surrounding region as within Serrano Ancestral Territory since time immemorial, sharing a group identity with the human remains taken from Morgan's Bluff.

Cultural Affiliation

Based on the information available and the results of consultation, cultural affiliation is clearly identified by the information available about the human remains and associated funerary objects described in this notice.

Determinations

The University of California, Riverside has determined that:

• The human remains described in this notice represent the physical remains of one individual of Native American ancestry.

• The eight objects described in this notice are reasonably believed to have been placed intentionally with or near individual human remains at the time of death or later as part of the death rite or ceremony.

• There is a reasonable connection between the human remains and associated funerary objects described in this notice and the Morongo Band of Mission Indians, California and the Yuhaaviatam of San Manuel Nation (previously listed as San Manuel Band of Mission Indians, California).

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after January 29, 2025. If competing requests for repatriation are received, the University of California, Riverside must determine the most appropriate requestor prior to repatriation. Requests for joint repatriation of the human remains and associated funerary objects are considered a single request and not competing requests. The University of California, Riverside is responsible for sending a copy of this notice to the Indian Tribes and Native Hawaiian organizations identified in this notice.

Authority: Native American Graves Protection and Repatriation Act, 25 U.S.C. 3003, and the implementing regulations, 43 CFR 10.10.

Dated: December 19, 2024.
Melanie O'Brien,
Manager, National NAGPRA Program.

[FR Doc. 2024-31300 Filed 12-27-24; 8:45 am]

BILLING CODE 4312-52-P